DEPARTMENT OF AGRICULTURE

Agricultural Marketing Service

[Docket No. FV-02-330]

United States Standards for Grades of Canned Mushrooms

AGENCY: Agricultural Marketing Service, USDA.

ACTION: Notice; withdrawal.

SUMMARY: The Agricultural Marketing Service (AMS) of the Department of Agriculture (USDA) published a notice soliciting comments on its proposed revision to change the United States Standards for Grades of Canned Mushrooms. Specifically, AMS proposed to lower the Recommended Minimum Drained Weight Averages (RMDWA's) and lower limits for mushrooms packed in the 8 ounce, jumbo, and No. 10 can sizes. After reviewing and considering the comments received, the Agency has decided to withdraw the proposal and terminate the action.

EFFECTIVE DATE: March 25, 2002.

FOR FURTHER INFORMATION CONTACT: Chere L. Shorter, Processed Products Branch, Fruit and Vegetable Programs, Agricultural Marketing Service, U.S. Department of Agriculture, Room 0709, South Building; STOP 0247, Washington, DC 20250; faxed to (202) 690-1527; or e-mailed to Chere.Shorter@usda.gov.

The current United States Standards for Grades of Canned Mushrooms, along with the proposed changes, are available either through the address cited above or by accessing the Internet at http://www.ams.usda.gov/fv/ppb.html. Any comments received, regarding this notice will also be posted on that site.

SUPPLEMENTARY INFORMATION:

Background

In August 1990, USDA, through one of its field offices, received a letter from a food importer in New York alerting AMS to the disparity in the United States Standards for Grades of Canned Mushrooms. The company proposed that the RMDWA's in the U.S. Standards for Grades of Canned Mushrooms be lowered to 56 percent of the water capacity of the container, the FDA minimum fill requirement appearing in 21 CFR 155.201.

In consideration of this proposal, AMS gathered information from government and industry sources.

Drained weight, although not a factor of quality in canned mushrooms, is very important in connection with the marketing of processed fruit and vegetable products. Drained weight indicates the amount of fruit and vegetable ingredient in relation to packing media and to some extent the degree to which a product may have disintegrated during processing and handling. Most U.S. standards for canned fruits and vegetables contain a recommended drained weight. Drained weight, when applicable, is a requirement in federal specifications and other purchase specifications or contracts. The USDA reports the range of drained weights on their certificates when there is a mandatory FDA requirement, such as for canned mushrooms. Although drained weight is an FDA mandatory requirement in canned mushrooms, buyers and sellers can establish their own specification of minimum drained weights that exceed the FDA.

Presently, the U.S. standard for canned mushrooms includes a recommended minimum drained weight of 62 percent of the water capacity, or for example, 68.0 ounces for the No. 10 can, while the FDA minimum is 61.3 ounces (56 percent) for this can size. The water capacity is determined according to the FDA method outlined in 21 CFR 130.12. The FDA established its current 56 percent minimum in rulemaking based upon a petition from the National Food Processors Association (NFPA) requesting that the drained weight required for mushrooms packed in larger cans be reduced because of the high incidence of bacterial spoilage in such containers. The FDA initiated rulemaking in a proposed rule (47 FR 26843; June 22, 1982). The NFPA attributed the problem to overfilling to meet the drained weight requirement. Therefore, the NFPA proposed to reduce the drained weight requirement for larger cans so that the ratio of mushrooms to water capacity of the container was not less than 56 percent. A final rule was published in the Federal Register on March 15, 1983 (48 FR 10812) and a Federal Register Notice confirming the effective dates was published on September 14, 1983 (48 FR 41155.)

The USDA published a notice in the Federal Register, on December 4, 1998 (63 FR 67040), proposing to revise the U.S. Standards for Grades of Canned Mushrooms by lowering the recommended drained weight from 62 percent to 56 percent of the can capacity.

A 60 day comment period was provided for interested persons to send in comments on this recommended change to the Standards.

AMS received one comment that was opposed to the change in drained weight. The commenter stated that the change would result in a lack of uniformity in that there would be a larger number of pack sizes within the narrow range of 56 to 62 percent of the water capacity. They also stated that the change would require expensive changes in the manufacturing process, through new heat penetration studies, new labels, and new in-plant procedures resulting in a restructuring of the manufacturing process. And finally, the commenter felt that the marketing environment would become more confused as a result. AMS believes that the comments have merit and therefore has decided to withdrawal the proposal and terminate the action.

In another matter, the commenter wanted a review of the current color standards for canned mushrooms. They stated that due to the extreme difficulty in achieving Grade A color in glass, that the minimum color classifications be reviewed.

Because this response is beyond the scope of the intended notice, USDA will review this discussion in another forum when more data is available. Interested parties are however encouraged to submit data to justify reviewing the minimum color requirements for canned mushrooms.

After reviewing and considering the comments received, the Agency has decided not to proceed with the action. Therefore, the notice published December 4, 1998 (64 FR 67040) is withdrawn.

Dated: March 18, 2002.
A.J. Yates,
Administrator, Agricultural Marketing Service.

[FR Doc. 02-7109 Filed 3-22-02; 8:45 am]

BILLING CODE 3410-02-P